DEPARTMENT OF COMMERCE

National Oceanic and Atmospheric Administration

15 CFR Part 922

[Docket No. 220621-0139]

RIN 0648-AV85

Amendments to National Marine Sanctuary Regulations; Delay of Effective Date

AGENCY: Office of National Marine Sanctuaries (ONMS), National Oceanic and Atmospheric Administration (NOAA), Department of Commerce (DOC).

ACTION: Interim final rule; delay of effective date.

SUMMARY: On May 13, 2022, the National Oceanic and Atmospheric Administration (NOAA) published an interim final rule in the Federal Register that amended the Office of National Marine Sanctuaries (ONMS) regulations. That rule was published with a 30-day comment period, which ended on June 13, 2022, and a 45-day delayed effective date of June 27, 2022. This rule delays the effective date of the interim final rule by 90 days, until September 26, 2022.

DATES: As of June 24, 2022, the effective date for the interim final rule published May 13, 2022, at 87 FR 29606, is delayed to September 26, 2022.

FOR FURTHER INFORMATION CONTACT: Vicki Wedell, NOAA Office of National Marine Sanctuaries, (240) 533-0650, Vicki.Wedell@noaa.gov.

SUPPLEMENTARY INFORMATION:

Background

In response to the interim final rule published on May 13, 2022 (87 FR 29606), which updated and streamlined ONMS regulations, NOAA received eight comments before the end of the comment period on June 13, 2022. The submitted comments are posted at regulations.gov under docket NOAA-NOS-2011-0120. Based on issues raised by some of the public comments, NOAA is preparing technical corrections and responses to those comments for the final rule. Therefore, NOAA is delaying the June 27, 2022 effective date of the interim final rule by 90 days, to September 26, 2022. This action does not extend or reopen the comment period for NOAA's previous request for comments on the interim final rule.

National Marine Sanctuaries Act

The National Marine Sanctuaries Act (NMSA) authorizes the Secretary of Commerce (Secretary) to designate, manage, and protect, as a national marine sanctuary, any area of the marine environment that is of special national significance due to its conservation, recreational, ecological, historical, scientific, cultural, archeological, educational, or esthetic qualities (16 U.S.C. 1431 et seq.). NMSA provides the legal basis and serves as the authority under which NOAA issues this action.

Nicole R. LeBoeuf,
Assistant Administrator for Ocean Services and Coastal Zone Management, National Ocean Service.

[FR Doc. 2022-13570 Filed 6-23-22; 8:45 am]

BILLING CODE 3510-NK-P